SMALL BUSINESS ADMINISTRATION

[Disaster Declaration # 13665 and #13666]

North Dakota Disaster #ND-00039

AGENCY: U.S. Small Business Administration.

ACTION: Notice.

SUMMARY: This is a Notice of the Presidential declaration of a major disaster for Public Assistance Only for the State of North Dakota (FEMA-4128-DR), dated 07/12/2013.

Incident: Severe Storms and Flooding

Incident Period: 05/17/2013 through 06/16/2013

Effective Date: 07/12/2013

Physical Loan Application Deadline Date: 09/10/2013

Economic Injury (EIDL) Loan Application Deadline Date: 04/14/2014

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the President's major disaster declaration on 07/12/2013, Private Non-Profit organizations that provide essential services of governmental nature may file disaster loan applications at the address listed above or other locally announced locations.

The following areas have been determined to be adversely affected by the disaster:

Primary Counties: Benson, Bottineau, Cavalier, Dunn, Kidder, Mchenry, Mckenzie, Mclean, Mountrail, Nelson, Pembina, Pierce, Ramsey, Sheridan, Stark, Towner, Walsh, Ward, Wells, And the Spirit Lake Indian Reservation, and the Turtle Mountain Band of Chippewa Indian Reservation.

The Interest Rates are:

| Percent
For Physical Damage:
Non-Profit Organizations With Credit Available Elsewhere | 2.875
Non-Profit Organizations Without Credit Available Elsewhere | 2.875
For Economic Injury:
Non-Profit Organizations Without Credit Available Elsewhere | 2.875

The number assigned to this disaster for physical damage is 13665B and for economic injury is 13666B

(Catalog of Federal Domestic Assistance Numbers 59002 and 59008)

James E. Rivera,
Associate Administrator for Disaster Assistance.

[FR Doc. 2013-17577 Filed 7-22-13; 8:45 am]

BILLING CODE 8025-01-P